FEDERAL ELECTION COMMISSION

Sunshine Act Notices

DATE & TIME: Tuesday, August 22, 2000 at 10 a.m.

PLACE: 999 E Street, N.W., Washington, D.C.

STATUS: This meeting will be closed to the public.

ITEMS TO BE DISCUSSED: Compliance matters pursuant to 2 U.S.C. § 437g.

Audits conducted pursuant to 2 U.S.C. § 437g, § 438(b), and Title 26, U.S.C.

Matters concerning participation in civil actions or proceedings or arbitration.

Internal personnel rules and procedures or matters affecting a particular employee.

DATE & TIME: Thursday, August 24, 2000 at 10 a.m.

PLACE: 999 E Street, N.W., Washington, D.C. (ninth floor)

STATUS: This meeting will be open to the public.

ITEMS TO BE DISCUSSED:

Correction and Approval of Minutes.

Draft Advisory Opinion 2000-08 (Reconsideration)—Philip D. Harvey.

Draft Advisory Opinion 2000-21—Conservative Party of the State of New York by counsel, John N. Ciampoli.

Draft Revisions to FEC Forms and Instructions.

Administrative Matters.

PERSON TO CONTACT FOR INFORMATION: Mr. Ron Harris, Press Officer, Telephone: (202) 694-1220.

Mary W. Dove,
Acting Secretary of the Commission.

[FR Doc. 00-21070 Filed 8-15-00; 8:45 am]

BILLING CODE 6715-01-M